DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2009 National Survey on Drug Use and Health Methods Field Test—NEW

The National Survey on Drug Use and Health (NSDUH), formerly the National Household Survey on Drug Abuse (NHSDA) is a survey of the civilian, non-institutionalized population of the United States 12 years old and older. The data are used to determine the prevalence of use of tobacco products, alcohol, illicit substances, and illicit use of prescription drugs. The results are used by SAMHSA, ONDCP, Federal Government agencies, and other organizations and researchers to establish policy, direct program activities, and better allocate resources. The procedures and materials are currently being redesigned for the 2012 survey. In order to adequately test the proposed materials and procedures, a stand-alone field test will be conducted in the third quarter of 2009. This field test will examine the impact of changing a number of data collection procedures upon costs and data quality.

The field test will feature an experiment assessing the benefits of offering a $5 incentive for the screening interview versus conducting the screening over the telephone. The portion of the sample that will receive the incentive will be notified of the cash payment in the lead letter. For the telephone screening sample, normal procedures will be used for the first 8 weeks. During week 8, the remaining households who have not been screened will either be contacted using a reverse look-up procedure and asked to complete the screener, or mailed a letter asking them to call a toll-free number to be screened.

Other changes included in the field test version of the survey are an increased interview incentive and a brief appeal for honesty at the beginning of the questionnaire. New respondent debriefing questions will be added to the questionnaire while debriefing items that the interviewer answers will be modified. In addition, the hard copy pill cards and reference date calendar used during the administration of the interview have been converted to an electronic format.

The total burden estimate is shown below:

| No. of responses | Responses per respondent | Average burden per response (hr.) | Total burden (hrs.)
Household Screening | 3,900 | 1 | .083 | 323.7
Interview | 1,875 | 1 | 1.0 | 1,875
Screening Verification | 390 | 1 | .067 | 26.1
Interview Verification | 188 | 1 | .067 | 12.6
Total | 6,353 |  |  | 2,237

Send comments to Summer King, SAMHSA Reports Clearance Officer, Room 7-1044, One Choke Cherry Road, Rockville, MD 20857 and e-mail her a copy at summer.king@samhsa.hhs.gov. Written comments should be received within 60 days of this notice.

Dated: December 24, 2008.
Dennis O. Romero,
Acting Deputy Executive Officer.

[FR Doc. E8-31299 Filed 1-2-09; 8:45 am]

BILLING CODE 4162-20-P